DEPARTMENT OF TRANSPORTATION

Federal Aviation Administration

14 CFR Part 39

[Docket No. FAA-2012-0640; Directorate Identifier 2011-NM-203-AD]

RIN 2120-AA64

Airworthiness Directives; Airbus Airplanes

AGENCY: Federal Aviation Administration (FAA), DOT.

ACTION: Notice of proposed rulemaking (NPRM).

SUMMARY: We propose to adopt a new airworthiness directive (AD) for certain Airbus Model A330-243, -243F, -341, -342, and -343 airplanes equipped with Rolls-Royce Trent 700 engines. This proposed AD was prompted by reports of extensive damage to engine air intake cowls as a result of acoustic panel collapse. This proposed AD would require repetitive inspections of the three inner acoustic panels of both engine air intake cowls to detect disbonding, and corrective actions if necessary. We are proposing this AD to detect and correct disbonding, which could result in detachment of the engine air intake cowl from the engine leading to ingestion of parts, which could cause failure of the engine, and consequent reduced controllability of the airplane.

DATES: We must receive comments on this proposed AD by August 6, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com. For Rolls-Royce service information identified in this proposed AD, contact Rolls-Royce plc, P.O. Box 31, Derby, DE24 8BJ, England; telephone 011 44 1332 242424; fax 011 44 1332 249936; Internet https://www.aeromanager.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, Washington 98057-3356; telephone (425) 227-1138; fax (425) 227-1149.

SUPPLEMENTARY INFORMATION:

Comments Invited

We invite you to send any written relevant data, views, or arguments about this proposed AD. Send your comments to an address listed under the ADDRESSES section. Include “Docket No. FAA-2012-0640; Directorate Identifier 2011-NM-203-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2011-0173, dated September 13, 2011 (referred to after this as “the MCAI”), to correct an unsafe condition for the specified products. The MCAI states:

Two operators of A330 aeroplanes fitted with Rolls-Royce Trent 700 engines reported finding extensive damage to engine air intake cowls as a result of acoustic panel collapse, most probably caused by panel disbonding.

This condition, if not detected and corrected, could lead to the detachment of the engine air intake cowl from the engine, possibly resulting in ingestion of parts by, and consequence damage to, the engine, or injury to persons on the ground.

For the reasons described above, this [EASA] AD requires repetitive special detailed inspections (tap tests) of the 3 inner acoustic panels of both engine air intake cowls to detect any disbonding and, depending on findings, applicable corrective actions.

The unsafe condition is detachment of the engine air intake cowl from the engine, which could result in ingestion of parts causing failure of the engine, and consequent reduced controllability of the airplane. Corrective actions include repair or replacement of the affected engine air intake cowl. The compliance time for replacing an engine air intake cowl that is damaged beyond certain damage limits is before further flight. For damage that is below certain specified damage limits, the compliance time for repetitive inspections is between 10 flight cycles and 267 flight cycles, or the affected unit is specified to be repaired before further flight. You may obtain further information by examining the MCAI in the AD docket.

Relevant Service Information

Airbus has issued Mandatory Service Bulletin A330-71-3024, Revision 01, dated September 27, 2011. The actions described in this service information are intended to correct the unsafe condition identified in the MCAI.

Rolls-Royce plc has issued Alert Service Bulletin RB. 211-71-AG419, including Appendix 1, dated May 10, 2011.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

Based on the service information, we estimate that this proposed AD would affect about 22 products of U.S. registry. We also estimate that it would take about 20 work-hours per product to comply with the basic requirements of this proposed AD. The average labor rate is $85 per work-hour. Based on these figures, we estimate the cost of the proposed AD on U.S. operators to be $37,400, or $1,700 per product.

In addition, we estimate that any necessary follow-on actions would take up to 34 work-hours for a cost of up to $2,890 per product. We have received no definitive data that would enable us to provide parts cost estimates for the on-condition actions specified in this proposed AD. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2012-0640; Directorate Identifier 2011-NM-203-AD.

(a) Comments Due Date

We must receive comments by August 6, 2012.

(b) Affected ADs

None.

(c) Applicability

This AD applies to Airbus Model A330-243, -243F, -341, -342, and -343 airplanes; certificated in any category; all manufacturer serial numbers; equipped with Rolls-Royce Trent 700 engines.

(d) Subject

Air Transport Association (ATA) of America Code 71, Powerplant.

(e) Reason

This AD was prompted by reports of extensive damage to engine air intake cowls as a result of acoustic panel collapse. We are issuing this AD detect and correct disbonding, which could result in detachment of the engine air intake cowl from the engine leading to ingestion of parts, which could cause failure of the engine, and consequent reduced controllability of the airplane.

(f) Compliance

You are responsible for having the actions required by this AD performed within the compliance times specified, unless the actions have already been done.

(g) Repetitive Detailed Inspection

At the applicable compliance time specified in paragraphs (g)(1) and (g)(2) of this AD: Do a tap test inspection of the three inner acoustic panels of each engine air intake cowl for disbonding, in accordance with the Accomplishment Instructions of Airbus Mandatory Service Bulletin A330-71-3024, Revision 01, dated September 27, 2011. Repeat the inspection thereafter at intervals not to exceed 24 months, except as required by paragraphs (h) and (i) of this AD.

(1) For an engine air intake cowl that has accumulated less than 5,000 total flight cycles or less than 20,000 total flight hours, whichever occurs first, since its first installation on an airplane as of the effective date of this AD: Within 24 months after the engine air intake cowl has accumulated 5,000 total flight cycles or 20,000 total flight hours, whichever occurs first, since its first installation on an airplane.

(2) For an engine air intake cowl that has accumulated 5,000 or more total flight cycles or 20,000 or more total flight hours, whichever occurs first, since its first installation on an airplane as of the effective date of this AD: Within 24 months after the effective date of this AD.

(h) Inspection of Replaced Engine Intake Cowl

For airplanes on which an engine air intake cowl is replaced after the effective date of this AD, at the applicable compliance time specified in paragraph (h)(1) or (h)(2) of this AD: Do a tap test inspection for disbonding of the three inner acoustic panels of the affected engine air intake cowl for disbonding, in accordance with the Accomplishment Instructions of Airbus Mandatory Service Bulletin A330-71-3024, Revision 01, dated September 27, 2011. Repeat the inspection thereafter at intervals not to exceed 24 months.

(1) Within 24 months after the engine air intake cowl accumulates 5,000 total flight cycles or 20,000 total flight hours, whichever occurs first, since its first installation on any airplane, except as required by paragraph (h)(2) of this AD.

(2) Before installation, if an engine air intake cowl has accumulated 5,000 or more total flight cycles or 20,000 or more total flight hours, whichever occurs first, since its first installation on any airplane, and which has not been inspected in accordance with the Accomplishment Instructions of Airbus Mandatory Service Bulletin A330-71-3024, Revision 01, dated September 27, 2011, within the preceding 24 months.

(i) Corrective Actions

(1) If any disbonding is found during any inspection required by this AD, and the findings are within the permitted allowable damage limit (ADL) specified in Rolls-Royce Alert Service Bulletin RB. 211-71-AG419, including Appendix 1, dated May 10, 2011: Do the actions specified in paragraph (i)(1)(i), (i)(1)(ii), or (i)(1)(iii) of this AD.

(i) Repeat the tap test inspection required by paragraph (g) of this AD at the applicable inspection interval specified in Rolls-Royce Alert Service Bulletin RB. 211-71-AG419, including Appendix 1, dated May 10, 2011, until the actions required by paragraph (i)(1)(ii) or (i)(1)(iii) are accomplished.

(ii) Repair the affected engine air intake cowl before further flight, in accordance with the Accomplishment Instructions of Rolls-Royce Alert Service Bulletin RB. 211-71-AG419, including Appendix 1, dated May 10, 2011. Repeat the inspection specified in paragraph (g) of this AD thereafter at the applicable compliance time specified in paragraph (g) of this AD.

(iii) Replace the affected engine air intake cowl before further flight, in accordance with the Accomplishment Instructions of Rolls-Royce Alert Service Bulletin RB. 211-71-AG419, including Appendix 1, dated May 10, 2011. Repeat the inspection specified in paragraph (g) of this AD thereafter at the applicable compliance time specified in paragraph (g) of this AD.

(2) If any disbonding is found during any inspection required by this AD, and the findings are not within the permitted ADL specified in Rolls-Royce Alert Service Bulletin RB. 211-71-AG419, including Appendix 1, dated May 10, 2011: Before further flight, replace the affected engine air intake cowl, in accordance with the Accomplishment Instructions of Rolls-Royce Alert Service Bulletin RB. 211-71-AG419, including Appendix 1, dated May 10, 2011. Repeat the inspection specified in paragraph (g) of this AD thereafter at the applicable compliance time specified in paragraph (g) of this AD.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, Washington 98057-3356; telephone (425) 227-1138; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(k) Related Information

(1) Refer to MCAI European Aviation Safety Agency, Airworthiness Directive 2011-0173, dated September 13, 2011, and the following service information for related information.

(i) Airbus Mandatory Service Bulletin A330-71-3024, Revision 01, dated September 27, 2011.

(ii) Rolls-Royce Alert Service Bulletin RB. 211-71-AG419, including Appendix 1, dated May 10, 2011.

(2) For Airbus service information identified in this AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com. For Rolls-Royce service information identified in this AD, contact Rolls-Royce plc, P.O. Box 31, Derby, DE24 8BJ, England; telephone 011 44 1332 242424; fax 011 44 1332 249936; Internet https://www.aeromanager.com. You may review copies of the referenced service information at the FAA, Transport Airplane Directorate, 1601 Lind Avenue SW., Renton, Washington. For information on the availability of this material at the FAA, call 425-227-1221.

Issued in Renton, Washington, on June 12, 2012.
Kalene C. Yanamura,
Acting Manager, Transport Airplane Directorate, Aircraft Certification Service.

[FR Doc. 2012-15175 Filed 6-20-12; 8:45 am]

BILLING CODE 4910-13-P